DEPARTMENT OF ENERGY

Federal Energy Regulatory Commission

Combined Notice of Filings #1

Take notice that the Commission received the following electric rate filings:

Docket Numbers: ER10-2249-002.

Applicants: Portland General Electric Company.

Description: Triennial Market Power Analysis for Northwest Region and Notice of Change in Status filing of Portland General Electric Company.

Filed Date: 6/26/13.

Accession Number: 20130626-5154.

Comments Due: 5 p.m. ET 8/26/13.

Docket Numbers: ER10-2579-002.

Applicants: NorthPoint Energy Solutions Inc.

Description: Notification of Non-Material Change in Status of NorthPoint Energy Solutions Inc.

Filed Date: 6/27/13.

Accession Number: 20130627-5022.

Comments Due: 5 p.m. ET 7/18/13.

Docket Numbers: ER12-911-004.

Applicants: CPV Sentinel, LLC.

Description: Triennial Market Power Update for Southwest Region of CPV Sentinel, LLC.

Filed Date: 6/27/13.

Accession Number: 20130627-5030.

Comments Due: 5 p.m. ET 8/26/13.

Docket Numbers: ER13-1737-001.

Applicants: Southwest Power Pool, Inc.

Description: 1636R10 Substitute KEPCO NITSA NOA to be effective 6/1/2013.

Filed Date: 6/27/13.

Accession Number: 20130627-5029.

Comments Due: 5 p.m. ET 7/18/13.

Docket Numbers: ER13-1792-000.

Applicants: GenOn Kendall, LLC.

Description: Notice of Succession to be effective 6/27/2013.

Filed Date: 6/26/13.

Accession Number: 20130626-5121.

Comments Due: 5 p.m. ET 7/17/13.

Docket Numbers: ER13-1793-000.

Applicants: Hazle Spindle, LLC.

Description: Hazle Spindle Initial Tariff—Clone to be effective 8/1/2013.

Filed Date: 6/26/13.

Accession Number: 20130626-5139.

Comments Due: 5 p.m. ET 7/17/13.

Docket Numbers: ER13-1794-000.

Applicants: Southern California Edison Company.

Description: Mountain View IFAs and DSAs for MVI, MVII, MVIII Projects to be effective 6/1/2013.

Filed Date: 6/27/13.

Accession Number: 20130627-5000.

Comments Due: 5 p.m. ET 7/18/13.

Docket Numbers: ER13-1795-000.

Applicants: Southern California Edison Company.

Description: Amended LGIA and Distribution Service Agmt for Mountain View IV Project to be effective 6/1/2013.

Filed Date: 6/27/13.

Accession Number: 20130627-5001.

Comments Due: 5 p.m. ET 7/18/13.

Docket Numbers: ER13-1796-000.

Applicants: Pacific Gas and Electric Company.

Description: Amendment to the CAISO Interim Black Start Agreement to be effective 7/1/2013.

Filed Date: 6/27/13.

Accession Number: 20130627-5002.

Comments Due: 5 p.m. ET 7/18/13.

Docket Numbers: ER13-1797-000.

Applicants: Northern States Power Company, a Minnesota corporation.

Description: 2013-6-27-Fargo_Phase_3_CMA_0.2.0—Filing to be effective 9/28/2012.

Filed Date: 6/27/13.

Accession Number: 20130627-5025.

Comments Due: 5 p.m. ET 7/18/13.

Docket Numbers: ER13-1798-000.

Applicants: PJM Interconnection, L.L.C.

Description: Notice of Cancellation of Original SA No. 2717 in Docket No. ER11-2757 to be effective 5/30/2013.

Filed Date: 6/27/13.

Accession Number: 20130627-5028.

Comments Due: 5 p.m. ET 7/18/13.

Take notice that the Commission received the following public utility holding company filings:

Docket Numbers: PH13-18-000.

Applicants: Gas Natural Inc.

Description: FERC-65A Exemption Request of Gas Natural Inc.

Filed Date: 6/26/13.

Accession Number: 20130626-5156.

Comments Due: 5 p.m. ET 7/17/13.

Docket Numbers: PH13-19-000.

Applicants: Gas Natural Inc.

Description: Notification of Holding Company Status filed on behalf of Gas Natural Inc.

Filed Date: 6/26/13.

Accession Number: 20130626-5157.

Comments Due: 5 p.m. ET 7/17/13.

Docket Numbers: PH13-20-000.

Applicants: Energy West Inc.

Description: Notification of Change in Exempt Company Status filed on behalf of Energy West Inc.

Filed Date: 6/26/13.

Accession Number: 20130626-5158.

Comments Due: 5 p.m. ET 7/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2013.
Nathaniel J. Davis, Sr.,
Deputy Secretary.

[FR Doc. 2013-16323 Filed 7-8-13; 8:45 am]

BILLING CODE 6717-01-P